DEPARTMENT OF HOUSING AND URBAN DEVELOPMENT

[Docket No. FR-5858-N-03]

Announcement of the Housing Counseling Federal Advisory Committee Appointment of Members and Notice of Public Meeting

AGENCY: Office of the Assistant Secretary for Housing—Federal Housing Commissioner, Department of Housing and Urban Development (HUD).

ACTION: Notice of Housing Counseling Federal Advisory Committee (HCFAC) Members, and Public Meeting.

SUMMARY: This notice announces the appointment of HCFAC members, gives notice of a one-day meeting and sets forth the proposed agenda of the Housing Counseling Federal Advisory Committee (HCFAC) first Committee meeting. The Committee meeting will be held on Tuesday, November 1, 2016. The meeting is open to the public and is accessible to individuals with disabilities.

DATES: The in-person meeting will be held on Tuesday, November 1, 2016 from 8:30 a.m. to 5:30 p.m. Eastern Daylight Time (EDT) at HUD Headquarters, 451 7th Street SW., Washington, DC 20410.

FOR FURTHER INFORMATION CONTACT: Marjorie George, Housing Program Technical Specialist, Office of Housing Counseling, U.S. Department of Housing and Urban Development, 200 Jefferson Avenue, Suite 300, Memphis, TN 38103; telephone number (901) 544-4228 (this is not a toll-free number). Persons who have difficulty hearing or speaking may access this number via TTY by calling the toll-free Federal Relay Service at (800) 877-8339. Individuals may also email HCFACCommittee@hud.gov.

SUPPLEMENTARY INFORMATION:

I. HCFAC Appointees

The U.S. Department of Housing and Urban Development (HUD) announces the appointment of 12 individuals to the Housing Counseling Federal Advisory Committee (HCFAC). The HCFAC was established on April 14, 2015 pursuant to Subtitle D of title XIV of the Dodd-Frank Wall Street Reform and Consumer Protection Act (Pub. L. 111-203, 124 Stat. 1376 (July 21, 2010)) (Dodd-Frank Act), which mandates that the Secretary appoint an advisory committee to provide advice to the Office of Housing Counseling (OHC). The Dodd-Frank Act also mandated that the HCFAC should equally represent the mortgage and real estate industry, consumers and HUD -approved housing counseling agencies. A Federal Register Notice was published on April 14, 2015, (80 FR 20005) soliciting the nomination of individuals via an application.

Selection of the HCFAC members was made by the Secretary based on the candidate's qualifications, expertise and diversity of viewpoints that are necessary to effectively address the matters before the HCFAC. Membership on the Committee is personal to the appointee and committee members serve at the discretion of the Secretary for a 3-year term, except the first appointed members consist of at a minimum 4 appointees that serve for a 2-year term and 4 appointees that serve for a 1-year term.

The initial HCFAC appointees effective June 1, 2016 are:

Mortgagor Sector:

Pamela Marron—3-year appointment

Jose' Larry Garcia—2-year appointment

Linda Ayres—1-year appointment

Real Estate Sector:

E.J. Thomas—3-year appointment

Cassie Hicks—2-year appointment

Alejandro Becerra—1-year appointment

Consumer Sector:

Afreen Alam—3-year appointment

Meg Burns—2-year appointment

Ellie Pepper—1-year appointment

Housing Counseling Sector:

Judy Hunter—3-year appointment

Arthur Zeman—2-year appointment

Terri Redmond—1-year appointment

II. Meeting and Agenda

HUD is convening the first meeting of the HCFAC on Tuesday, November 1, 2016 from 8:30 a.m. to 5:30 p.m. The meeting will be held at HUD Headquarters, 451 7th Street SW., Washington, DC 20410 and via conference phone. This meeting notice is provided in accordance with the Federal Advisory Committee Act, 5. U.S.C. App. 10(a)(2).

Draft Agenda—Housing Counseling Federal Advisory Committee Meeting—November 1, 2016

I. Welcome

II. Introduction of Members

III. Presentations by Industry Experts

IV. Discussion of Issues Facing the Housing Counseling Industry

A. Increasing Consumer Awareness of Housing Counseling Services

B. Achieving Greater Financial Sustainability for Housing Counseling Services

C. Measuring Demand for Housing Counseling

V. Public Comment

VI. Next Steps

VII. Adjourn

With advance registration, the public is invited to attend this one-day meeting in-person or by phone. To register to attend, please visit the Web page at: https://www.huduser.gov/portal/event/Housing-Counseling.html.

In-person attendees will receive details about the meeting location and how to access the building after completing the pre-registration process at the above link. The meeting is also open to the public with limited phone lines available on a first-come, first-served basis. Phone attendees can call-in to the one-day meeting by using the following toll-free number in the United States: (800) 230-1059. An operator will ask callers to provide their names and their organizational affiliations (if applicable) prior to placing callers into the conference line to ensure they are part of the pre-registration list. Callers can expect to incur charges for calls they initiate over wireless lines and HUD will not refund any incurred charges. Callers will incur no charge for calls they initiate over land-line connections to the toll-free phone number. Persons with hearing impairments may also follow the discussion by first calling the Federal Relay Service (FRS): (800) 977-8339 and providing the FRS operator with the conference call toll-free number: (800) 230-1059.

Also, with advance registration, members of the public will have an opportunity to provide oral and written comments. The total amount of time for oral comments will be limited to three minutes per commenter to ensure pertinent Committee business is completed. Written comments must be provided no later than October 24, 2016 to HCFACCommittee@hud.gov. If the number of registered commenters for the meeting exceeds the available time, HUD will initiate a lottery to select commenters. In order to pre-register to provide comments, please visit the Web page at: https://www.huduser.gov/portal/event/Housing-Counseling.html.

Records and documents discussed during the meeting, as well as other information about the work of this Committee, will be available for public viewing as they become available at: http://www.facadatabase.gov/committee/committee.aspx?cid=2492&aid=77 by clicking on the “Committee Meetings” link.

Dated: October 3, 2016.
Genger Charles,
General Deputy Assistant, Secretary for Housing.

[FR Doc. 2016-24336 Filed 10-6-16; 8:45 am]

BILLING CODE 4210-67-P